DEPARTMENT OF HEALTH AND HUMAN SERVICES

Administration for Children and Families

Request for Information: Technical Assistance Needs and Priorities on Implementation and Coordination of Early Childhood Development Programs in American Indian and Alaska Native Communities

AGENCY: Administration for Children and Families, U.S. Department of Health and Human Services.

ACTION: Request for public comment.

SUMMARY: Through this Request for Information (RFI), the Administration for Children and Families (ACF), in the U.S. Department of Health and Human Services (HHS), seeks to further the development, implementation, and coordination of early childhood development programs in American Indian and Alaska Native (AI/AN) communities, by soliciting information and recommendations from a broad array of individuals and organizations with knowledge and expertise around the context and needs of tribal communities and early childhood programs. ACF will analyze information received from this RFI to support the development, improvement, and implementation of technical assistance (TA) (i.e., information, tools, training, and other supports) efforts and strategies to support tribal communities and programs in carrying out and coordinating early childhood services and initiatives.

DATES: Send comments on or before April 5, 2022.

ADDRESSES: Submit questions, comments, and supplementary documents to OCCTribal@acf.hhs.gov with “Tribal TA RFI” in the subject line.

FOR FURTHER INFORMATION CONTACT: For further information, please contact Moushumi Beltangady at Moushumi.beltangady@acf.hhs.gov or 202-260-3613.

SUPPLEMENTARY INFORMATION:

Invitation to Comment: HHS invites comments regarding this notice. You do not need to address every question and should focus on those where you have relevant expertise or experience. In your response, please provide a brief description of yourself and your role or organization before addressing the questions. To ensure that your comments are clearly stated, please identify the questions you are responding to when submitting your response.

1.0 Background

Ensuring high-quality, culturally appropriate, birth-to-age 5 early childhood services to children from AI/AN communities has long been a critical priority for Native communities throughout the United States. Health care and education are considered a fundamental treaty right by tribes, and the fact that AI/AN populations experience disparities in health and well-being relative to other population groups highlights a significant need for targeted services. Building on neuroscience findings indicating that interventions in the first few years of a child's life have significant impacts on their lifelong health and well-being, tribal early childhood programs show promise in mitigating disparities. Programs like Head Start (https://eclkc.ohs.acf.hhs.gov), child care (https://www.acf.hhs.gov/occ), and home visiting (https://www.acf.hhs.gov/ecd/tribal/tribal-home-visiting) are key resources for children and families in diverse tribal communities. In addition, in recent years, there has been growing recognition of the need to support collaboration across these and other programs and develop more coordinated early childhood systems in AI/AN communities.

The federal government has increased its focus on supporting the implementation and coordination of tribal early childhood programs over the past year through various efforts to bring together and learn from tribal communities and highlight innovative and promising practices, as well as significantly increased funding to tribes through the American Rescue Plan Act. In addition, there are current collaborative federal efforts in place to promote collaboration and coordination of TA for tribal programs. There is also the potential for new or expanded early childhood programs to be implemented in tribal communities in the coming years, making a focus on supportive effective implementation and coordination of programs even more.

2.0 Request for Information

Through this Request for Information (RFI), ACF is seeking input from tribal leaders, tribal program administrators, service providers, current federal and non-federal TA providers, potential TA providers, national organizations, researchers, philanthropy, families and community members, states, and others about the TA needs and priorities of tribal communities around implementing and providing early childhood services (including Head Start, child care, home visiting, preschool, and early intervention and special education), as well as needs around coordination of services and supporting stronger early childhood systems at the tribal level.

Responses to this RFI will inform ongoing and future efforts to provide training and TA to tribal communities. We are not only interested in feedback about current TA needs and priorities, but also the needs, capacity, and potential of the system to support implementation and coordination of any new or expanded early childhood initiatives. This RFI is for information and planning purposes only and should not be construed as a solicitation or as an obligation on the part of ACF or HHS.

3.0 Key Questions

3.1 In your opinion, what are the key topics or areas where tribal communities want or need TA or support to effectively implement or coordinate tribal early childhood programs (e.g., Head Start, child care, home visiting, preschool, early intervention, and special education)?

• What TA would be helpful to support tribal communities to implement their priorities around integration of language and culture, including language preservation and maintenance, in their early childhood programs and systems?

• What TA would be helpful to support tribal communities in conducting needs assessments and strategic planning activities to support effective and coordinated early childhood programs and systems?

• What TA would be helpful to support tribal communities in effective fiscal and administrative management of early childhood programs and grants?

• Given existing challenges with recruiting, hiring, and retaining qualified tribal early childhood program staff, what TA would be helpful to support tribal communities in building, supporting, strengthening, and maintaining an effective early childhood workforce?

• What TA would be helpful to support tribal communities in planning for, developing, building, maintaining, and improving appropriate early care and education facilities?

• What TA supports do tribal communities need or want around data collection and management, data systems, and data sovereignty in their early childhood programs and systems?

• What TA would be helpful to support tribal communities in implementing continuous quality improvement and evaluation initiatives in their early childhood programs and systems?

• What TA would be helpful to support tribal communities directly implementing high-quality early childhood programs and services (including evidence-based, developmentally appropriate practices, as well as infant and toddler programs and services to children with disabilities)?

• What TA would be helpful to support tribal early childhood programs in implementation of health, behavioral health, nutrition services, as appropriate?

• What TA would be helpful to support tribal early childhood programs and communities in effectively engaging families, elders, and community members and promoting family leadership (i.e., empowering families to have a voice in program planning, implementation, and evaluation and advocate for their children)?

• What TA would be helpful to support tribal communities in developing, implementing, and overseeing (1) subsidy and certificate programs, (2) licensing programs, and (3) grants and contracts for early childhood services?

• What TA would be helpful to better support (1) tribal-level coordination and integration of early childhood programs and supports and (2) development of early childhood systems?

• What TA would be helpful to support tribes, when they desire, to collaborative effectively with states on implementation of early childhood programs and services?

• Are there any other key topic areas where TA would be helpful to support tribal communities in implementation and coordination of early childhood programs and systems? Are there any specific considerations around implementing possible new child care or preschool programs?

3.2 In your opinion, what is the ability and capacity of the current federal early childhood TA system to support tribal communities in the areas where TA is needed?

• What are the strengths of the existing TA system?

• Where are the gaps in the existing TA system?

• What existing resources could be more fully leveraged or tailored to be responsive to tribal early childhood programs and the needs of tribal communities?

3.3 In your opinion, what is the ideal structure of a TA network to provide support to tribal communities around implementation and coordination of early childhood programs and systems?

• What is the ideal overall organization of a federal tribal early childhood TA system (e.g., national coordinating centers, regional-specific centers, topic-specific centers)?

• What are the best ways to ensure that federal TA is well-coordinated?

• What are the needed skills, background, capacities, experiences, and resources of entities and individuals providing TA to tribal communities implementing early childhood programs and systems?

• What are the best strategies for providing TA to tribal communities to implement coordinated early childhood programs and supports (e.g., universal, targeted, intensive)?

• What are the ideal methods for providing TA to tribal communities on early childhood programs (e.g., written resources, tools, webinars, trainings, meetings, site visits, peer learning and collaboration, coaching)?

3.4 If new or expanded TA supports are needed to support tribal early childhood program implementation and coordination, in your opinion, in what ways can the field (including TA providers) build capacity to provide the needed TA to tribal communities?

• Are there organizations or entities that are capable to serve as TA providers?

• Is there a pool of people who have the skills and experience necessary, including understanding the context of tribal communities, tribal sovereignty, culture and language, and tribal early childhood programs, to provide the TA that is needed?

• How can the TA system build capacity without negatively impacting tribal communities themselves (e.g., by hiring away experienced staff)?

• How could potential new TA investments be integrated into the existing network of federal tribal early childhood TA providers?

3.5 In your opinion, do different types of tribal communities have different TA needs and priorities (topics, methods, strategies)?

• Larger tribal communities?

• Smaller tribal communities?

• Alaska Native communities?

• Urban Indian communities?

• Tribes that are consolidating child care into their 102-477 employment, training, and related services plans?

3.6 In your opinion, what are key challenges and lessons learned in providing effective TA to tribal communities to implement coordinated early childhood programs and systems?

• What are the primary challenges or barriers?

• For entities that have provided TA to tribal communities on these topics, what are some key lessons learned?

Authority: Section 511, Title V of the Social Security Act (42 U.S.C. 711); Head Start Act, as amended (42 U.S.C. 9801 et seq.); CCDB Act of 2014, as amended (Pub. L. 113-186).

Katie Hamm,
Deputy Assistant Secretary for Early Childhood Development Administration for Children and Families U.S. Department of Health and Human Services.

[FR Doc. 2022-05962 Filed 3-21-22; 8:45 am]

BILLING CODE 4184-74-P